INTERNATIONAL TRADE COMMISSION

[Investigations Nos. 731-TA-539-C, E and F (Review)]

Uranium From Russia, Ukraine and Uzbekistan

Determinations

On the basis of the record ¹ developed in the subject five-year reviews, the United States International Trade Commission determines, pursuant to section 751(c) of the Tariff Act of 1930 (19 U.S.C. 1675(c)) (the Act), that: (1) Termination of the suspended investigation on uranium from Russia would be likely to lead to continuation or recurrence of material injury in the United States within a reasonably foreseeable time; (2) revocation of the antidumping duty order on uranium from Ukraine would not be likely to lead to continuation or recurrence of material injury to an industry in the United States within a reasonably foreseeable time; and (3) termination of the suspended investigation on uranium from Uzbekistan would not be likely to lead to continuation or recurrence of material injury in the United States within a reasonably foreseeable time.

¹ The record is defined in sec. 207.2(f) of the Commission's Rules of Practice and Procedure (19 CFR § 207.2(f)).

Background

The Commission instituted these reviews on August 2, 1999 (64 FR 41965) and determined on November 4, 1999, that it would conduct full reviews (64 FR 62691, November 17, 1999). Notice of the scheduling of the Commission's reviews and of a public hearing to be held in connection therewith was given by posting copies of the notice in the Office of the Secretary, U.S. International Trade Commission, Washington, DC, and by publishing the notice in the Federal Register on January 24, 2000 (65 FR 3737). The hearing was held in Washington, DC, on June 13, 2000, and all persons who requested the opportunity were permitted to appear in person or by counsel.

The Commission transmitted its determinations in these reviews to the Secretary of Commerce on August 7, 2000. The views of the Commission are contained in USITC Publication 3334 (August 2000), entitled Uranium from Russia, Ukraine and Uzbekistan: Investigations Nos. 731-TA-539-C, E and F (Review).

Issued: August 2, 2000.
By order of the Commission.
Donna R. Koehnke,
Secretary.

[FR Doc. 00-20111 Filed 8-8-00; 8:45 am]

BILLING CODE 6712-01-U